DEPARTMENT OF TRANSPORTATION

Federal Aviation Administration

14 CFR Part 73

[Docket No. FAA-2012-0561; Airspace Docket No. 12-AEA-7]

Proposed Amendment of Restricted Area R-6601; Fort A.P. Hill, VA

AGENCY: Federal Aviation Administration (FAA), DOT.

ACTION: Notice of proposed rulemaking (NPRM).

SUMMARY: This action proposes to expand the vertical limits and time of designation of restricted area R-6601, Fort A.P. Hill, VA. The U. S. Army requested this action to provide the additional airspace needed to conduct training in high-angle weapons systems employment.

DATES: Comments must be received on or before July 30, 2012.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2012-0561 and Airspace Docket No. 12-AEA-7, at the beginning of your comments. You may also submit comments through the Internet at http://www.regulations.gov. Comments on environmental and land use aspects to should be directed to: Director of Environmental and Natural Resources Division, Attn: Ms. Terry Banks, U.S. Army Garrison, Fort A.P. Hill, VA 22427; telephone: (804) 633-8223.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2012-0561 and Airspace Docket No. 12-AEA-7) and be submitted in triplicate to the Docket Management System (see ADDRESSES section for address and phone number). You may also submit comments through the Internet at http://www.regulations.gov.

Commenters wishing the FAA to acknowledge receipt of their comments on this action must submit with those comments a self-addressed, stamped postcard on which the following statement is made: “Comments to FAA Docket No. FAA-2012-0561 and Airspace Docket No. 12-AEA-7.” The postcard will be date/time stamped and returned to the commenter.

Comments on environmental and land use aspects to should be directed to: Director of Environmental and Natural Resource Division, U.S. Army Garrison, Fort A.P. Hill, VA, 22427; telephone: 804-633-8223.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's web page at http://www.faa.gov/airports_airtraffic/air_traffic/publications/airspace_amendments/.

You may review the public docket containing the proposal, any comments received and any final disposition in person at the Dockets Office (see ADDRESSES section for address and phone number) between 9:00 a.m. and 5:00 p.m., Monday through Friday, except Federal holidays. An informal docket may also be examined during normal business hours at the office of the Operations Support Group, Eastern Service Center, Federal Aviation Administration, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

Fort A.P. Hill has a continuing requirement to conduct training in the use of various high- angle weapons systems. This training cannot be contained within the current 5,000-foot MSL ceiling of restricted area R-6601. Currently, this training is conducted in a controlled firing area (CFA) situated above R-6601. However, the FAA determined that the activities no longer meet the criteria for a CFA. As a result, military units have had to cancel high-angle weapon system training. Recurring training in these events is necessary to maintain currency. This training is even more critical for units that are preparing to deploy into a theater of operations where the use of these tactics is required.

The Proposal

The FAA is proposing an amendment to 14 CFR part 73 to expand the vertical limits and the time of designation for restricted area R-6601, Fort A.P. Hill, VA. R-6601 currently extends from the “surface to 5,000 feet MSL,” with a time of designation of “0700 to 2300 local time daily; other times by NOTAM at least 48 hours in advance.”

The proposed new restricted airspace would extend up to 9,000 feet MSL and would consist of three sub-areas designated R-6601A, R-6601B and R-6601C. R-6601A would extend from the surface to but not including 4,500 feet MSL, instead of the current 5,000 feet MSL for R-6601. R-6601B would extend from 4,500 feet MSL to but not including 7,500 feet MSL; and R-6601C would extend from 7,500 feet MSL to 9,000 feet MSL. Subdividing the airspace in this manner would allow activation of only that portion of restricted airspace required for training while leaving the remaining airspace available for other users. In addition, a Letter of Agreement would be concluded between the using and controlling agencies stipulating that the controlling agency can recall the airspace in the event of Severe Weather Avoidance Plan (SWAP) implementation, weather diverts and emergencies.

R-6601A would have the same lateral boundaries as the original R-6601. R-6601B and R-6601C would overlie the boundaries of R-6601A, except at the northeast end where the shared R-6601B and R-6601C boundary would be moved southwesterly approximately ¾ mile from R-6601A's northeastern boundary. This would provide a buffer between R-6601B and C and the centerline of VOR Federal airway V-386.

The proposed time of designation for R-6601A would be changed from the current “0700 to 2300 local time daily,” to “0700 to 0200 local time daily,” an increase of three hours daily. In addition, the advance NOTAM requirement for activation of R-6601A at other times would be reduced from the current 48 hours to 24 hours. The time of designation for both R-6601B and R-6601C would be “By NOTAM 24 hours in advance.”

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in SubtitleVII, Part A, Subpart I, Section 40103. Under that section, the FAA is charged with prescribing regulations to assign the use of the airspace necessary to ensure the safety of aircraft and the efficient use of airspace. This regulation is within the scope of that authority as it would restructure the restricted airspace at Fort A.P. Hill, VA, to support essential military training activities.

Environmental Review

This proposal will be subjected to an environmental analysis in accordance with FAA Order 1050.1E, “Environmental Impacts: Policies and Procedures,” prior to any FAA final regulatory action.

List of Subjects in 14 CFR Part 73

Airspace, Prohibited Areas, Restricted Areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.66 (Amended)

2. § 73.66 is amended as follows:

* * * * *

1. R-6601 Fort A.P. Hill, VA [Remove]

2. R-6601A Fort A.P. Hill, VA [New]

Boundaries. Beginning at lat. 38°04′37″ N., long. 77°18′44″ W.; then along U.S. Highway 301; to lat. 38°09′45″ N., long. 77°11′59″ W.; then along U.S. Highway 17; to lat. 38°07′50″ N., long. 77°08′29″ W.; to lat. 38°05′30″ N., long. 77°09′05″ W.; to lat. 38°04′40″ N., long. 77°10′19″ W.; to lat. 38°03′12″ N., long. 77°09′34″ W.; to lat. 38°02′22″ N., long. 77°11′39″ W.; to lat. 38°02′30″ N., long. 77°14′39″ W.; to lat. 38°01′50″ N., long. 77°16′07″ W.; to lat. 38°02′15″ N., long. 77°18′03″ W.; to lat. 38°02′40″ N., long. 77°18′59″ W.; then to the point of beginning.

Designated altitudes. Surface to but not including 4,500 feet MSL.

Time of Designation. 0700 to 0200 local time daily. Other times by NOTAM 24 hours in advance.

Controlling agency. FAA, Potomac TRACON.

Using agency. U.S. Army, Commander, Fort A.P. Hill, VA.

3. R-6601B Fort A.P. Hill, VA [New]

Boundaries. Beginning at lat. 38°04′37″ N., long. 77°18′44″ W.; then along U.S. Highway 301 to lat. 38°09′38″ N., long. 77°12′07″ W.; to lat. 38°07′09″ N., long. 77°08′40″ W.; to lat. 38°05′30″ N., long. 77°09′05″ W.; to lat. 38°04′40″ N., long. 77°10′19″ W.; to lat. 38°03′12″ N., long. 77°09′34″ W.; to lat. 38°02′22″ N., long. 77°11′39″ W.; to lat. 38°02′30″ N., long. 77°14′39″ W.; to lat. 38°01′50″ N., long. 77°16′07″ W.; to lat. 38°02′15″ N., long. 77°18′03″ W.; to lat. 38°02′40″ N., long. 77°18′59″ W.; then to the point of beginning.

Designated altitudes. 4,500 feet MSL to but not including 7,500 feet MSL.

Time of designation. By NOTAM 24 hours in advance.

Controlling agency. FAA, Potomac TRACON.

Using agency. U.S. Army, Commander, Fort A.P. Hill, VA.

4. R-6601C Fort A.P. Hill, VA [New]

Boundaries. Beginning at lat. 38°04′37″ N., long. 77°18′44″ W.; then along U.S. Highway 301 to lat. 38°09′38″ N., long. 77°12′07″ W.; to lat. 38°07′09″ N., long. 77°08′40″ W.; to lat. 38°05′30″ N., long. 77°09′05″ W.; to lat. 38°04′40″ N., long. 77°10′19″ W.; to lat. 38°03′12″ N., long. 77°09′34″ W.; to lat. 38°02′22″ N., long. 77°11′39″ W.; to lat. 38°02′30″ N., long. 77°14′39″ W.; to lat. 38°01′50″ N., long. 77°16′07″ W.; to lat. 38°02′15″ N., long. 77°18′03″ W.; to lat. 38°02′40″ N., long. 77°18′59″ W.; then to the point of beginning.

Designated altitudes. 7,500 feet MSL to 9,000 feet MSL.

Time of designation. By NOTAM 24 hours in advance.

Controlling agency. FAA, Potomac TRACON.

Using agency. U.S. Army, Commander, Fort A.P. Hill, VA.

Issued in Washington, DC, on June 7, 2012.
Colby Abbott,
Acting Manager, Airspace, Regulations and ATC Procedures Group.

[FR Doc. 2012-14404 Filed 6-12-12; 8:45 am]

BILLING CODE 4910-13-P